FEDERAL MARITIME COMMISSION

Ocean Transportation Intermediary License; Applicants

Notice is hereby given that the following applicants have filed with the Federal Maritime Commission an application for license as a Non-Vessel Operating Common Carrier and Ocean Freight Forwarder—Ocean Transportation Intermediary pursuant to section 19 of the Shipping Act of 1984 as amended (46 U.S.C. app. 1718 and 46 CFR part 515).

Persons knowing of any reason why the following applicants should not receive a license are requested to contact the Office of Transportation Intermediaries, Federal Maritime Commission, Washington, DC 20573.

Non-Vessel Operating Common Carrier Ocean Transportation Intermediary Applicants:

Tradewinds International LLC, 330 Broadway, Hillsdale, NJ 07642. Officers: Kevin Sinnott, Vice President (Qualifying Individual), John Fornazor, President.

All-In Freight Int'l Inc., 167-10 South Conduit Ave., Rm. 207, Jamaica, NY 11434. Officer: Jay Lee, President (Qualifying Individual).

Non-Vessel Operating Common Carrier and Ocean Freight Forwarder Transportation Intermediary Applicants:

Air Parcel Express, Inc. AKN by APX, Air Parcel Express, Inc., 8201 NW 66th Street, Miami, FL 33166. Officers: Andres R. Guerra-Mondragon, President (Qualifying Individual), Virginie Guerra-Mondragon, Secretary.

Cap Worldwide, Inc., 3214 Igloo, Building 7, Suite 200, Houston, TX 77032. Officers: Monica J. Wiley, Vice President (Qualifying Individual), Gale Dendinger, President.

Master Air Corp., 3559 NW 82nd Avenue, Miami, FL 33122. Officer: Andres Gutierrez, President, (Qualifying Individual).

SNS Shipping, Inc., 147-04 176th Street, Jamaica, NY 11434. Officer: In Ja Cho, President (Qualifying Individual).

Quisqueya Cargo Express, Inc., 48-12 104 Street, Corona, NY 11368. Officer: Placido Delgado, President (Qualifying Individual).

Accel Product Company dba Accel International, 8219 Zionsville Road, Indianapolis, IN 46268. Officers: Celia Yi, President (Qualifying Individual), Connie Yi, Vice President.

Ocean Freight Forwarder—Ocean Transportation Intermediary Applicants:

La Primavera Cargo Express Corp., 1388-92 Jesup Avenue, Bronx, NY 10452. Officer: Luis L. Garcia, President (Qualifying Individual).

Bergen Logistics LLC, 330 Broadway, Hillsdale, NJ 07642. Officers: Kevin Sinnott, Vice President (Qualifying Individual), John Fornazor, President.

Dated: August 27, 2004.
Bryant L. VanBrakle,
Secretary.

[FR Doc. 04-19973 Filed 8-31-04; 8:45 am]

BILLING CODE 6730-01-P